FEDERAL COMMUNICATIONS COMMISSION

47 CFR Part 73

[DA 00-596; MM Docket No. 99-96, RM-9534; MM Docket No. 99-193, RM-9561; MM Docket No. 99-194, RM-9562; MM Docket No. 99-308, RM-9693; MM Docket No. 99-309, RM-9694; MM Docket No. 99-310, RM-9742]

Radio Broadcasting Services; Newell, SD; Moville, IA, Rockford, IA; Watseka, IL; Keosauqua, IA; Box Elder, SD

AGENCY: Federal Communications Commission.

ACTION: Final rule.

SUMMARY: This document grants six proposals that allot new channels to Newell, South Dakota; Moville, Iowa; Rockford, Iowa; Watseka, Illinois; Keosauqua, Iowa; and Box Elder, South Dakota. Filing windows for Channel 279C2 at Newell, South Dakota; Channel 246A at Moville, Iowa, Channel 225A at Rockford, Iowa; Channel 240A at Watseka, Illinois; Channel 271C3 at Keosauqua, Iowa; and Channel 274A at Box Elder, South Dakota, will not be opened at this time. Instead, the issue of opening a filing window for these channels will be addressed by the Commission in a subsequent order.

DATES: Effective May 1, 2000.

FOR FURTHER INFORMATION CONTACT: Sharon P. McDonald, Mass Media Bureau, (202) 418-2180.

SUPPLEMENTARY INFORMATION: This is a synopsis of the Commission's Report and Order, MM Docket No. 99-96; MM Docket No. 99-193; MM Docket No. 99-194; MM Docket No. 99-308; MM Docket No. 99-309; MM Docket No. 99-310, adopted March 8, 2000, and released March 17, 2000. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission, at the request of Mountain West Broadcasting, allots Channel 279C2 at Newell, South Dakota, as the community's first local aural transmission service. See 64 FR 15713, April 1, 1999. Channel 279C2 can be allotted at Newell in compliance with the Commission's minimum distance separation requirements with a site restriction of 1.8 kilometers (1.1 miles) north to avoid a short-spacing to the licensed site of Station KIQK(FM), Channel 281C1, Rapid City, South Dakota. The coordinates for Channel 279C2 at Newell are 44-43-58 North Latitude and 103-25-18 West Longitude.

The Commission, at the request of Mountain West Broadcasting, allots Channel 246A at Moville, Iowa, as the community's first local aural transmission service. See 64 FR 29978, June 4, 1999. Channel 246A can be allotted to Moville in compliance with the Commission's minimum distance separation requirements with a site restriction of 5.2 kilometers (3.2 miles) east to avoid a short-spacing to the licensed site of Station KMXC(FM), Channel 247C1, Sioux Falls, Iowa. The coordinates for Channel 246A at Moville are 42-29-11 North Latitude and 96-00-36 West Longitude.

The Commission, at the request of Mountain West Broadcasting, allots Channel 225A at Rockford, Iowa, as the community's first local aural transmission service. See 64 FR 29978, June 4, 1999. Channel 225A can be allotted at Rockford in compliance with the Commission's minimum distance separation requirements with a site restriction of 2.3 kilometers (1.4 miles) southwest to avoid short-spacings to the licensed sites of Station KATF(FM), Channel 225C1, Dubuque, Iowa, and Station KFSI(FM), Channel 225A, Rochester, Minnesota. The coordinates for Channel 225A at Rockford are 43-01-55 North Latitude and 92-57-53 West Longitude.

The Commission, at the request of Iroquois County Broadcasting Company, allots Channel 240A at Watseka, Illinois, as the community's second local FM transmission service. See 64 FR 57838, October 27, 1999. Channel 240A can be allotted at Watseka in compliance with the Commission's minimum distance separation requirements with a site restriction of 5.4 kilometers (3.3 miles) northwest to avoid a short-spacing to the licensed site of Station WKKD-FM, Channel 240A, Aurora, Illinois. The coordinates for Channel 240A at Watseka are 40-48-00 North Latitude 87-47-15 West Longitude.

The Commission, at the request of McTronix, allots Channel 271C3 at Keosauqua, Iowa, as the community's first local aural transmission service. See 64 FR 57838, October 27, 1999. Channel 271C3 can be allotted at Keosauqua in compliance with the Commission's minimum distance separation requirements at city reference coordinates. The coordinates for Channel 271C3 at Keosauqua are 40-43-48 North Latitude and 91-57-48 West Longitude.

The Commission, at the request of La Nina Education Association, allots Channel 274A at Box Elder, South Dakota, as the community's first local aural transmission service. See 64 FR 57837, October 27, 1999. Channel 274A can be allotted at Box Elder in compliance with the Commission's minimum distance separation requirements at city reference coordinates. The coordinates for Channel 274A at Box Elder are 44-06-48 North Latitude and 103-04-12 West Longitude.

List of Subjects in 47 CFR Part 73

Radio broadcasting.

Part 73 of Title 47 of the Code of Federal Regulations is amended as follows:

PART 73—[AMENDED]

1. The authority citation for Part 73 continues to read as follows:

Authority: 47 U.S.C. 154, 303, 334, 336.

§ 73.202 [Amended]

2. Section 73.202(b), the Table of FM Allotments under South Dakota, is amended with respect to the communities listed below, as follows:

a. By adding Newell, Channel 279C2; and

b. By adding Box Elder, Channel 274A.

3. Section 73.202(b), the Table of FM Allotments under Iowa, is amended with respect to the communities listed below, as follows:

a. By adding Moville, Channel 246A;

b. By adding Rockford, Channel 225A; and

c. By adding Keosauqua, Channel 271C3.

4. Section 73.202(b), the Table of FM Allotments under Illinois, is amended by adding Channel 240A at Watseka.

Federal Communications Commission.
John A. Karousos,
Chief, Allocations Branch, Policy and Rules Division, Mass Media Bureau.

[FR Doc. 00-8343 Filed 4-4-00; 8:45 am]

BILLING CODE 6712-01-U